INTERNATIONAL TRADE COMMISSION

[USITC SE-13-021]

Sunshine Act Meeting Notice

AGENCY HOLDING THE MEETING: United States International Trade Commission.

TIME AND DATE: August 30, 2013 at 11:00 a.m.

PLACE: Room 101, 500 E Street SW., Washington, DC 20436, Telephone: (202) 205-2000.

STATUS: Open to the public.

MATTERS TO BE CONSIDERED:

1. Agendas for future meetings: none.

2. Minutes.

3. Ratification List.

4. Vote in Inv. Nos. 731-TA-1224 and 1225 (Preliminary) (Ferrosilicon from Russia and Venezuela). The Commission is currently scheduled to complete and file its determinations on or before September 3, 2013; views of the Commission are currently scheduled to be completed and filed on or before September 10, 2013.

5. Outstanding action jackets: none.

In accordance with Commission policy, subject matter listed above, not disposed of at the scheduled meeting, may be carried over to the agenda of the following meeting.

Issued: August 22, 2013.
By order of the Commission.
William R. Bishop,
Supervisory Hearings and Information Officer.

[FR Doc. 2013-20862 Filed 8-22-13; 4:15 pm]

BILLING CODE 7020-02-P